DEPARTMENT OF THE INTERIOR

National Park Service

[NPS-WASO-NAGPRA-NPS0030486;PPWOCRADN0-PCU00RP14.R50000]

Notice of Inventory Completion: Princeton University, Princeton, NJ

AGENCY: National Park Service, Interior.

ACTION: Notice.

SUMMARY: Princeton University has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Princeton University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Princeton University at the address in this notice by August 31, 2020.

ADDRESSES: Bryan R. Just, Princeton University Art Museum, Princeton, NJ 08544, telephone (609) 258-8805, email bjust@princeton.edu.

SUPPLEMENTARY INFORMATION: Notice is here given in accordance with the Native American Graves Protection and Repatriation Act (NAGPRA), 25 U.S.C. 3003, of the completion of an inventory of human remains and associated funerary objects under the control of Princeton University, Princeton, NJ. The human remains and associated funerary objects were removed from Port Mulgrave, Yakutat Bay, near Yakutat, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Princeton University professional staff in consultation with representatives of the Central Council of the Tlingit & Haida Indian Tribes and the Yakutat Tlingit Tribe.

History and Description of the Remain

In 1886, human remains representing, at minimum, one individual (PU 12484) were removed from the grave of a shaman (Íxt') in Port Mulgrave, Yakutat Bay, near Laaxaayík Kwáan (Yakutat), AK, by Princeton geology Professor, William A. Libbey III, during a climbing expedition. The expedition was sponsored by the New York Times to map Yas 'éit'aa Shaa (Mount Saint Elias). George T. Emmons, Frederick Schwatka, Heywood Senton Karr, and others accompanied Libbey. The expedition collection was accessioned by the EM (Elizabeth Marsh) Museum (later renamed the Princeton Museum of Natural History), where Libbey served as Director. No known individual was identified. The 28 associated funerary objects are one lot of shaman's cedar bark grave-box the contents (ui.2010.160); four shaman's masks (PU 3911, PU 3922, PU 3923, PU 3957); three shaman's maskettes (PU 3916, PU 3919, PU 3920); two shaman's wands (PU 5060, PU 5063); two shaman's necklaces (Ixt' seit) (PU 5106, PU 5107); two lots of shaman's charms (PU 5065, PU 5070); two lots of charms and/or hairpins (PU 5066, PU 5104); one possible shaman's charm in the form of a shuttle for carrying twine used in making nets (PU 5080); one lot of charms or picks for a wand (PU 5105); six rattles (PU 5198, PU 5152, PU 5153, PU 5168, PU 5200); one lot of mountain goat horns from a shaman's crown (Íxt' gaaw) (PU 5177); one buckskin coat (PU 5195); one lot of shaman's tapping sticks (xítcÀ) (PU 5201); and one land otter (Kóoshdaa) grave marker (PU 5293). (The following additional associated funerary objects are missing from the collection—one dance rattle (PU 5199); one shaman's drum (Íxt' gaaw) and one drumstick (PU 5193); and one shaman's necklace (PU 5064).

Determinations Made by Princeton University

Officials of Princeton University have determined that:

• Pursuant to 25 U.S.C. 3001(9), the human remains described in this notice represent the physical remains of one individual of Native American ancestry based on their anthropological and geographical context.

• Pursuant to 25 U.S.C. 3001(3)(A), the 28 objects described in this notice are reasonably believed to have been placed with or near individual human remains at the time of death or later as part of the death rite or ceremony.

• Pursuant to 25 U.S.C. 3001(2), there is a relationship of shared group identity that can be reasonably traced between the Native American human remains and associated funerary objects and the Yakutat Tlingit Tribe.

Additional Requestors and Disposition

Lineal descendants or representatives of any Indian Tribe or Native Hawaiian organization not identified in this notice that wish to request transfer of control of the human remains and associated funerary objects should submit a written request with information in support of the request to Bryan R. Just, Princeton University Art Museum, Princeton, NJ 08544, telephone (609) 258-5013, email bjust@princeton.edu, by August 31, 2020. After that date, if no additional requestors have come forward, transfer of control of the human remains and associated funerary objects to the Yakutat Tlingit Tribe may proceed.

Princeton University is responsible for notifying the Central Council of the Tlingit & Haida Indian Tribes and the Yakutat Tlingit Tribe that this notice has been published.

Dated: June 18, 2020.
Melanie O'Brien,
Manager, National NAGPRA Program.

[FR Doc. 2020-16495 Filed 7-29-20; 8:45 am]

BILLING CODE 4312-52-P